DEPARTMENT OF HOMELAND SECURITY

Directorate of Information Analysis and Infrastructure Protection (IAIP); Open Meeting of National Infrastructure Advisory Council (NIAC)

AGENCY: Directorate of Information Analysis and Infrastructure Protection, DHS.

ACTION: Notice of meeting.

SUMMARY: The National Infrastructure Advisory Council (NIAC) will meet on Tuesday, October 12, 2004, from 1 p.m. until 4 p.m. at the Hamilton Crowne Plaza Hotel in Washington, DC. The meeting will be open to the public. Limited seating will be available. Reservations are not accepted.

The NIAC advises the President of the United States on the security of information systems for critical infrastructure supporting other sectors of the economy, including banking and finance, transportation, energy, manufacturing, and emergency government services. At this meeting, the NIAC will be briefed on the status of several Working Group activities, including those that the Council undertook at its last meeting.

DATES: The NIAC will meet Tuesday, October 12, 2004, from 1 p.m. until 4 p.m.

ADDRESSES: The NIAC will meet at the Hamilton Crowne Plaza Hotel, 529 14th & K St., NW., Washington, DC 20005.

The NIAC Designated Federal Official can be contacted via mail: Ms. Nancy J. Wong, Infrastructure Coordination Division, Directorate of Information Analysis and Infrastructure Protection, Department of Homeland Security, Room 6095, 14th Street & Constitution Avenue, NW., Washington, DC. 20230.

FOR FURTHER INFORMATION CONTACT: Nancy J. Wong, NIAC Designated Federal Official, 202-482-1929.

SUPPLEMENTARY INFORMATION: Notice of these meetings is given under the Federal Advisory Committee Act, 5 U.S.C. App. 2.

Agenda of Committee Meeting on October 12, 2004

I. Opening of Meeting

Nancy J. Wong, Department of Homeland Security (DHS)/Designated Federal Officer, NIAC

II. Roll Call of Members

NIAC Staff

III. Opening Remarks

Frances Fragos Townsend, Assistant to the President and Homeland Security Advisor, Homeland Security Council, (invited);

Secretary Tom Ridge, DHS (invited);

Lt. Gen. Frank Libutti (USMC, ret.), Under Secretary for Information Analysis and Infrastructure Protection, DHS (invited); and

Robert P. Liscouski, Assistant Secretary for Infrastructure Protection, Department of Homeland Security (invited);

IV. Status Reports on Pending Initiatives:

A. Intelligence Process and Work Products Regarding Critical Infrastructures

Vice Chairman John T. Chambers, Chairman & CEO, Cisco Systems, Inc. and Chief Gilbert Gallegos, Police Chief, City of Albuquerque, New Mexico Police Department; NIAC Member

B. Risk Management Approaches to Protection

Thomas E. Noonan, Chairman, President & CEO, Internet Security Systems, Inc.; NIAC Member and Martha Marsh, President & CEO, Stanford Hospital & Clinics; NIAC Member

C. Assuring Adequate National Intellectual Capital to Secure Cyber-Based Critical Infrastructures

Vice Chairman Chambers, Chairman & CEO, Cisco Systems, Inc. and Dr. Linwood Rose, President, James Madison University; NIAC Member

V. Final Report and Discussion on Hardening the Internet

George H. Conrades, Chairman & CEO Akamai Technologies; NIAC Member

VI. Final Report and Discussion on the Common Vulnerability Scoring System

Vice Chairman Chambers; and John W. Thompson, Chairman & CEO, Symantec Corporation; NIAC Member

VII. Final Report and Discussion on Prioritization of Cyber Vulnerabilities

Martin G. McGuinn, Chairman & CEO, Mellon Financial Corporation; NIAC Member

VIII. Adoption Of NIAC Recommendations

NIAC Members

IX. New Initiatives

Chairman Erle A. Nye; NIAC Members

X. New Business

Chairman Erle A. Nye; NIAC Members

XI. Adjournment

Procedural

These meetings are open to the public. Please note that the meetings may close early if all business is finished.

Information on Services for Individuals with Disabilities

For information on facilities or services for individuals with disabilities, or to request special assistance at the meeting, telephone the Designated Federal Official as soon as possible.

Dated: September 13, 2004.
Nancy J. Wong,
Designated Federal Official for NIAC.

[FR Doc. 04-21690 Filed 9-27-04; 8:45 am]

BILLING CODE 4410-10-P